DEPARTMENT OF DEFENSE

Department of the Navy

[Docket ID: USN-2018-HQ-0017]

Proposed Collection; Comment Request

AGENCY: The Secretary of the Navy, DoD.

ACTION: Information collection notice.

SUMMARY: In compliance with the Paperwork Reduction Act of 1995, the Manpower & Reserve Affairs (M&RA), Business and Support Services Division (MR) announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by December 24, 2018.

ADDRESSES: You may submit comments, identified by docket number and title, by any of the following methods:

Federal eRulemaking Portal: http://www.regulations.gov. Follow the instructions for submitting comments.

Mail: Department of Defense, Office of the Chief Management Officer, Directorate for Oversight and Compliance, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Branch Head, Food, Lodging, and Commercial Recreation, Business and Support Services Division (MR), Headquarters, U.S. Marine Corps, 3044 Catlin Avenue, Quantico, VA 22134-5099, or call 703-784-3811.

SUPPLEMENTARY INFORMATION:

Title; Associated Form; and OMB Number: Point-of sale NAF Hotel Information System and Inns of the Corps Customer Feedback, OMB Control Number 0703-XXXX.

Needs and Uses: The information collection requirement is necessary to keep a record of Marine Corps Community Services' (MCCS's) lodging reservations to ensure orderly room assignment and avoid improper booking; to record registration and payment of accounts; to verify proper usage by eligible patrons; for cash control; to gather occupancy data; to determine occupancy breakdown; to account for rentals and furnishings; and to collect data for customer satisfaction and marketing. Patrons are required to present appropriate identification to determine their eligibility to access MCCS Lodging's facilities and services.

Affected Public: Individual or Households.

Point-of-Sale System

Annual Burden Hours: 2,500.

Number of Respondents: 15,000.

Responses per Respondent: 1.

Annual Responses: 15,000.

Average Burden per Response: 10 minutes.

Frequency: On occasion.

Customer Feedback Survey

Annual Burden Hours: 82.5.

Number of Respondents: 1,650.

Responses per Respondent: 1.

Annual Responses: 1,650.

Average Burden per Response: 3 minutes.

Frequency: On occasion.

Total Annual Burden Hours: 2,582.5.

Total Number of Respondents: 15,000.

Total Annual Responses: 16,650.

The information collected will be used to manage and administer MCCS lodging reservations, accommodations, sales transactions, and services provided as well as improving marketing and customer satisfaction based on customer feedback. The collection instruments include the point-of-sale system terminal located at each lodging facility and customer feedback that is requested via email. The information provided for MCCS lodging reservations, accommodations, sales transactions, and services is stored on the centralized database of the point-of-sale system. Information access is controlled and managed via system administration and security for those who have a need-to-know. Customer feedback is collected and stored by the third-party currently contracted with MCCS. The intended result is the ability to provide lodging services efficiently and effectively with an ability to follow up with customers to improve customer satisfaction. The successful effect is streamlining service delivery, improved customer experience, and higher utilization and retention rates.

Dated: October 18, 2018.
Aaron T. Siegel,
Alternate OSD Federal Register, Liaison Officer, Department of Defense.

[FR Doc. 2018-23145 Filed 10-23-18; 8:45 am]

BILLING CODE 5001-06-P